DEPARTMENT OF THE TREASURY

Submission for OMB Review; Comment Request

July 31, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before September 5, 2006 to be assured of consideration.

Internal Revenue Service (IRS)

OMB Number: 1545-0644.

Type of Review:

Title: Gains and Losses From Section 1256 Contracts and Straddles.

Form: 6781.

Description: Form 6781 is used by taxpayers to compute their gains and losses from Section 1256 contracts and straddles and their special tax treatment. The data is used to verify that the tax reported accurately reflects any such gains and losses.

Respondents: Business and other for-profit institutions.

Estimated Total Burden Hours: 903,236 hours.

Clearance Officer: Glenn P. Kirkland (202) 622-3428, Internal Revenue Service, Room 6516, 1111 Constitution Avenue, NW., Washington, DC 20224.

OMB Reviewer: Alexander T. Hunt (202) 395-7316, Office of Management and Budget, Room 10235, New Executive Office Building, Washington, DC 20503.

Robert Dahl,
Treasury PRA Clearance Officer.

[FR Doc. E6-12549 Filed 8-2-06; 8:45 am]

BILLING CODE 4830-01-P